DEPARTMENT OF AGRICULTURE

Submission for OMB Review; Comment Request

July 19, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Farmers' Market Nutrition Program (FMNP) Forms and Regulations.

OMB Control Number: 0584-0447.

Summary of Collection: The Women, Infants, and Children (WIC) Farmers' Market Nutrition Program (FMNP) is authorized by Public Law 108-265, enacted on June 30, 2004, which amends Section 17(m) of the Child Nutrition Act (42 U.S.C. 1786 (m)). The purpose of the FMNP is to provide resources to women, infants, and children who are nutritionally at risk, in the form of fresh, nutritious, unprepared foods (such as fruits and vegetables) from farmers' markets, and roadside stands at the option of the State; to expand the awareness and use of farmers' markets; and, to increase sales at such markets. The Food and Nutrition Service (FNS) will collect information from each state that receives a grant under the FMNP program in conjunction with the preparation of annual financial and recipient reports.

Need and Use of the Information: FNS will collect information from the state agency administering the FMNP to develop an annual financial report on the number and type of recipients served by both Federal and non-Federal benefits under the program. The information is necessary for reporting to Congress and for program planning purposes.

Description of Respondents: State, Local, or Tribal Government; Individuals or households; Business or other for-profit.

Number of Respondents: 7,992.

Frequency of Responses: Recordkeeping; Reporting: Annually.

Total Burden Hours: 23,917.

Food and Nutrition Service

Title: Supplemental Nutrition Assistance Program Repayment Demand and Program Disqualification.

OMB Control Number: 0584-0492.

Summary of Collection: Section 13(b) of the Food Stamp Act of 1977 requires that State agencies pursue collection action against households that have been over-issued benefits. To initiate collection action, State agencies must provide an affected household with written notification informing the over-issued household of the claim and demanding repayment.

Need and Use of the Information: State agency personnel will collect the information from individuals collecting food stamp benefits. The State agencies must maintain all records associated with this collection for a period of three years so that FNS can review documentation during compliance reviews and other audits. Without the information, FNS would not be able to correct accidental or fraudulent overpayment errors in the Food Stamp Program.

Description of Respondents: State, Local, and Tribal Government; Individuals or households.

Number of Respondents: 687,975.

Frequency of Responses: Recordkeeping; Reporting: Annually.

Total Burden Hours: 166,347.

Food and Nutrition Service

Title: WIC Breastfeeding Peer Counseling Study.

OMB Control Number: 0584-0548.

Summary of Collection: The Special Supplemental Nutrition Program for Women, Infants, and Children (WIC) was designed to improve the health of nutritionally at-risk, low-income pregnant, breastfeeding, and postpartum women, infants, and children up to five years of age. The program provides supplemental foods that are rich in nutrients known to be lacking in the target population; health and social service referrals; and nutrition education, including information about breastfeeding. Current recommendations of the American Academy of Pediatrics, the American Dietetic Association, the World Health Organization, and the U.S. government's Healthy People 2010 goals call for increases in the proportion of U.S. mothers who breastfeed their babies. WIC encourages breastfeeding as the best source of infant nutrition, and is working to meet the 2010 goals and improve the breastfeeding rates of WIC women relative to non-WIC participants.

Need and Use of the Information: The Food and Nutrition Service (FNS) will use an on-line survey to collect data from 86 State WIC agencies receiving FNS peer counseling grants on the implementation of the Loving Support peer counseling program. Results of the study will be used to: (1) Capture and disseminate information on implementing peer counseling programs using the Loving Support model, including lessons learned and successful approaches used by State agencies; (2) assess the additional technical and training needs of State agencies; and (3) provide information to FNS and other Stakeholders on how State agencies are using the peer counseling funding. Without this effort, FNS will not have the comprehensive, systematic description of the implementation of the Loving Support peer counseling program required to inform the future program decisions including expenditures of peer counseling funds.

Description of Respondents: State, Local, or Tribal Government.

Number of Respondents: 1,896.

Frequency of Responses: Reporting: Other (one time).

Total Burden Hours: 2,323.

Ruth Brown,
Departmental Information Collection Clearance Officer.

[FR Doc. 2011-18719 Filed 7-22-11; 8:45 am]

BILLING CODE P